NATIONAL CREDIT UNION ADMINISTRATION

Agency Information Collection Activities: Proposed Collection; Comment Request; NCUA Personnel Security Processing Form

AGENCY: National Credit Union Administration (NCUA).

ACTION: Notice and request for comment.

SUMMARY: The National Credit Union Administration (NCUA), as part of a continuing effort to reduce paperwork and respondent burden, invites the general public and other Federal agencies to comment on the following extension of a currently approved collection, as required by the Paperwork Reduction Act of 1995.

DATES: Written comments should be received on or before October 9, 2019 to be assured of consideration.

ADDRESSES: Send comments regarding the burden estimate, or any other aspect of this information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Suite 5080, Alexandria, VA 22314, or email at PRAComments@ncua.gov.

FOR FURTHER INFORMATION CONTACT: Copies of the submission may be obtained by contacting Mackie Malaka at (703) 548-2704, emailing PRAComments@ncua.gov, or viewing the entire information collection request at www.reginfo.gov.

SUPPLEMENTARY INFORMATION:

OMB Number: 3133-0201.

Title: NCUA Personnel Security Processing Forms.

Form: NCUA 1092, 1093, and 1093C.

Type of Review: Extension of a currently approved collection.

Abstract: Title 5, Code of Federal Regulations, Part 731 (suitability), Executive Order (E.O.) 13764 (contractor fitness), E.O. 12968/SEAD 4 (classified access), and Homeland Security Directive-12 (badging) requires all federal and contractor employees to undergo a background investigation when seeking employment with an agency. The NCUA Personnel Security Processing Forms (Personnel Security Data Form-Contractor, Personnel Security Data Form-Employee and the Authorization for Release of Credit Information) are used to collect information necessary for applying the government-established suitability/fitness criteria on employees before they can begin employment with or perform contractual services for the NCUA. It may be also required should a contract employee be moved to a new contract work. The background investigation process culminates in an adjudicative determination on whether or not these employees are fit to perform services on behalf of the agency.

Affected Public: Individuals or Households.

Estimated Total Annual Burden Hours: 200.

By Gerard Poliquin, Secretary of the Board, the National Credit Union Administration, on September 4, 2019.

Dated: September 4, 2019.
Mackie I. Malaka,
NCUA PRA Clearance Officer.

[FR Doc. 2019-19368 Filed 9-6-19; 8:45 am]

BILLING CODE 7535-01-P